DEPARTMENT OF ENERGY

Federal Energy Regulatory Commission

[Project No. 2082-062; Project No. 14803-000]

Notice of Tribal Consultation Meetings; PacifiCorp, Klamath River Renewal Corporation

On September 23, 2016, and supplemented on March 1, 2017, and June 23, 2017, PacifiCorp and the Klamath River Renewal Corporation (Renewal Corporation) filed an application to amend the existing Klamath Project No. 2082 to administratively remove the J.C. Boyle, Copco No. 1, Copco No. 2, and Iron Gate developments from the license and create a new project, the Lower Klamath Project No. 14803, for those developments. The applicants also request the Lower Klamath Project be transferred to the Renewal Corporation which, if the Commission were to approve its surrender application in a separate proceeding, would then surrender the project license and remove the above four developments.

The Commission will hold meetings with representatives of the Hoopa Valley Tribe, Karuk Tribe, Quartz Valley Indian Community, Klamath Tribes, and Yurok Tribe. Meetings will be held at the following locations and will begin at the times shown below:

Hoopa Valley Tribe, Tribal Council Chambers, Hoopa Valley Tribe Neighborhood Facilities, 11860 Highway 96, Hoopa, CA 95546, January 16, 2018, 10:00 a.m. (PST)

Karuk Tribe, Karuk Tribe Housing Authority, 37960 CA-Highway 96, Orleans, CA 95556, January 17, 2018, 10:00 a.m. (PST)

Quartz Valley Indian Community of the Quartz Valley Indian Reservation of California, 13601 Quartz Valley Road, Fort Jones, CA 96032, January 17, 2018, 4:00 p.m. (PST)

Klamath Tribes, Klamath Tribes Administration Building, 501 Chiloquin Boulevard, Chiloquin, OR, January 18, 2018, 10:00 a.m. (PST)

Yurok Tribe, Yurok Tribe Klamath Tribal Office, 190 Klamath Boulevard, Klamath, CA, January 19, 2018, 10:00 a.m. (PST)

Members of the public and intervenors in the referenced proceedings may attend these meetings; however, participation will be limited to tribal representatives and the Commission's representatives. If any tribe decides to disclose information about a specific location which could create a risk or harm to an archaeological site or Native American cultural resource, the public will be excused for that portion of the meeting when such information is disclosed. Each tribal meeting will be transcribed by a court reporter and the transcript will be placed in the public record of these proceedings.

To register for attendance at any of the above meetings, please contact Jennifer Polardino at the Federal Energy Regulatory Commission at (202) 502-6437 or jennifer.polardino@ferc.gov.

Dated: December 29, 2017.
Nathaniel J. Davis, Sr.,
Deputy Secretary.

[FR Doc. 2018-00126 Filed 1-5-18; 8:45 am]

BILLING CODE 6717-01-P